DEPARTMENT OF THE INTERIOR

Bureau of Land Management

[CA-610-05-4310-40-P]

Notice of Intent To Prepare an Environmental Impact Statement for Geothermal Leasing for the Truckhaven and Superstition Mountains

AGENCY: U.S. Department of the Interior, Bureau of Land Management, California Desert District, California.

ACTION: Notice of intent to prepare an environmental Impact Statement for Geothermal Leasing for Truckhaven and Superstition Mountains.

SUMMARY: Pursuant to Section 102(2)(c) of the National Environmental Policy Act (NEPA), and 42 U.S.C. 4321 et seq., the Bureau of Land Management (BLM) will prepare an Environmental Impact Statement (EIS) to analyze the proposed leasing of approximately 16,640 acres of BLM-managed public lands for geothermal exploration, development, and utilization in the Truckhaven and Superstition Mountain areas located in Western Imperial County, California. The leasing of public lands for geothermal resources is consistent with the California Desert Plan. Comments are being solicited to help identify significant issues or concerns related to the proposed action, determine the scope of issues, and identify and refine alternatives to the proposed action.

DATES: This notice initiates the public scoping process. Federal, State, and local agencies and the public that may be interested in or affected by the BLM's decision for the proposed action are invited to participate in the scoping process for the EIS. Scoping meetings to encourage and facilitate public participation are proposed to be held in San Diego, Anaheim, Long Beach, and El Centro, California. Times and locations of the scoping meetings will be announced in the local news media. Public scoping will be open for 60 days after the publication of this notice.

ADDRESSES: For Comments: In addition to the public scoping meetings, the BLM is inviting written comments and suggestions on the proposed action and the scope of the analysis. Written comments or requests should be received within 60 days after publication and must be submitted to the Bureau of Land Management, California Desert District Office, Attn: John Dalton, Truckhaven/Superstition Mountain Geothermal Leasing Coordinator, 22835 Calle San Juan De Los Lagos, Moreno Valley, California 92553. Comments may also be submitted via e-mail to John_Dalton@ca.blm.gov.

FOR FURTHER INFORMATION CONTACT: John Dalton at (951) 697-5311, John_Dalton@ca.blm.gov.

SUPPLEMENTARY INFORMATION: BLM has received 11 geothermal lease applications for public lands within the Truckhaven and Superstition Mountains area in western Imperial County, California. The proposed action is to lease these lands under the authority of the Geothermal Steam Act of 1970, as Amended. The public lands being considered for geothermal leasing are located in the Truckhaven area in sections 2, 10, and 12 in Township 11 South, Range 9 East, sections 6, 8, 18, 20, 22, 28, 30, 32, 34 in Township 11 South, Range 10 East , in sections 2, 10, and 12 in Township 12 South, Range 9 East , and 4, 6, 8, and 10 in Township 12 South, Range 10 East, and in the Superstition Mountain area in portions of sections 2, 3, 4, 9, 10, 11, 12, 13, 14, and 15 in Township 14 South, Range 11 East, San Bernardino and Base Meridian.

Alternatives thus far identified for evaluation in the EIS will include: (1) Approving all lease applications (16,640 acres), (2) the no action alternative (no leasing), and (3) leasing less than the proposed 16,640 acres of public land. The principal issues identified thus far for consideration in the EIS include: Native American concerns; cumulative impacts considering existing, proposed, and potential geothermal projects in the area; cultural resources; wildlife; land use conflicts, including recreation, military land use, the Salton Sea Authority area planning, development and restoration, county land use planning, State request for transfer of land north of State Route (SR) 78 and west of SR 86 to California for recreation and other public uses; visual resources; and surface water and groundwater resources, and sensitive species. The EIS will also address other issues such as geology, geothermal resources, vegetation, threatened or endangered species, air quality, noise, transportation, human health and safety, and socioeconomics as well as any issues raised during the scoping process.

Dated: June 21, 2005.
Linda Hansen,
District Manager.

[FR Doc. 05-14771 Filed 7-26-05; 8:45 am]

BILLING CODE 4310-40-P